DEPARTMENT OF HEALTH AND HUMAN SERVICES

National Institutes of Health

Submission for OMB Review; Comment Request NIH-American Association for Retired Persons (AARP) Comprehensive Lifestyle Interview by Computer (CLIC) Study

SUMMARY: Under the provisions of Section 3507(a)(1)(D) of the Paperwork Reduction Act of 1995, the National Cancer Institute (NCI), the National Institutes of Health (NIH), has submitted to the Office of Management and Budget (OMB) a request to review and approve the information collection listed below. This proposed information collection was previously published in the Federal Register on June 10, 2008 (Vol. 73, No. 112, p. 32717) and allowed 60-days for public comment. There were no public comments received during this time. The purpose of this notice is to allow an additional 30 days for public comment. The National Institutes of Health may not conduct or sponsor, and the respondent is not required to respond to, an information collection that has been extended, revised, or implemented on or after October 1, 1995, unless it displays a currently valid OMB control number.

Proposed Collection: Title: NIH-American Association for Retired Persons (AARP) Comprehensive Lifestyle Interview by Computer (CLIC) Study. Type of Information Collection Request: New. Need and Use of Information Collection: The Nutritional Epidemiology Branch of the Division of Cancer Epidemiology and Genetics of the National Cancer Institute has planned this study to evaluate the feasibility of using these three new computerized questionnaires as well as the Diet and Health Questionnaire (DHQ), a well-established food frequency questionnaire in a population of early-to-late-middle-aged men and women. Participants will be asked to complete one of four different series (pathways) of computerized questionnaires over a 90 day period, with some questionnaires in a series being completed twice. This evaluation study comprises the necessary performance and feasibility tests for the new computerized questionnaires, which will provide an opportunity to assess the possibility of administering computerized questionnaires in future large prospective cohort studies. The computerized questionnaires will support the ongoing examination between cancer and other health outcomes with nutritional, physical activity, and lifestyle exposures. The computerized questionnaires adhere to The Public Health Service Act, Section 412 (42 U.S.C. 285a-1) and Section 413 (42 U.S.C. 285a-2), which authorizes the Division of Cancer Epidemiology and Genetics of the National Cancer Institute (NCI) to establish and support programs for the detection, diagnosis, prevention and treatment of cancer; and to collect, identify, analyze and disseminate information on cancer research, diagnosis, prevention and treatment. Frequency of Response: Either 2 or 4 times, depending on the pathway. Affected Public: Individuals. Type of Respondents: U.S. adults (aged 50 and over). The annual reporting burden is displayed in the table below. The estimated total annual burden hours being requested is 2616. The annualized cost to respondents is estimated at: $46,242. There are no Capital Costs, Operating Costs, and/or Maintenance Costs to report.

Table 12-1—Estimates of Annual Burden Hours
Type of respondents | Instrument(s) tested | Frequency of response | Average time per response (hours) | Number of respondents/pathway | Annual hour burden
Senior Adults | Read Invitation | 1 | 1/60 | 7500 | 125.000
| Pre-Enrollment | 1 | 10/60 | 1046 | 174.333
| Enrollment Process | 1 | 5/60 | 1035 | 86.250
Assigned Pathway 1
| ACT-24 | 2 | 15/60 | 156 | 78.000
| LHQ | 1 | 20/60 | 156 | 52.000
| DHQ | 1 | 30/60 | 156 | 78.000
| 1 Web Re-entry | 1 | 1/60 | 156 | 2.600
Assigned Pathway 2
| ASA24 | 2 | 30/60 | 156 | 156.000
| DHQ | 1 | 30/60 | 156 | 78.000
| LHQ | 1 | 20/60 | 156 | 52.000
| 1 Web Re-entry | 1 | 1/60 | 156 | 2.600
Assigned Pathway 3
| ACT-24 | 2 | 15/60 | 362 | 181.000
| ASA24 | 2 | 30/60 | 362 | 362.000
| LHQ | 1 | 20/60 | 362 | 120.667
| DHQ | 1 | 30/60 | 362 | 181.000
| 1 Web Re-entry* | 1 | 1/60 | 362 | 6.033
Assigned Pathway 4
| ACT-24 | 2 | 15/60 | 362 | 181.000
| ASA24 | 2 | 30/60 | 362 | 362.000
| LHQ | 1 | 20/60 | 362 | 120.667
| DHQ | 1 | 30/60 | 362 | 181.000
| 3 Web Re-entries** | 3 | 1/60 | 362 | 18.100
| Evaluation Survey | 1 | 1/60 | 1035 | 17.250
Totals |  |  |  |  | 2615.50

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Attention: NIH Desk Officer, Office of Management and Budget, at OIRA_submission@omb.eop.gov or by fax to 202-395-6974. To request more information on the proposed project or to obtain a copy of the data collection plans and instruments, contact Arthur Schatzkin, M.D., Dr.P.H, Chief, Nutritional Epidemiology Branch, Division of Cancer Epidemiology and Genetics, National Cancer Institute, NIH, DHHS, Executive Plaza South, Room 3040, 6120 Executive Blvd., EPS-MSC 7242, Bethesda, MD 20892-7335 or call non-toll-free number 301-594-2931 or e-mail your request, including your address to: schatzka@mail.nih.gov.

Comments Due Date: Comments regarding this information collection are best assured of having their full effect if received within 30 days of the date of this publication.

Dated: August 11, 2008.
Vivian Horovitch-Kelley,
NCI Project Clearance Liaison Office, National Institutes of Health.

[FR Doc. E8-19217 Filed 8-19-08; 8:45 am]

BILLING CODE 4140-01-P